DEPARTMENT OF COMMERCE

International Trade Administration

A-570-822

Helical Spring Lock Washers from the People's Republic of China: Notice of Court Decision Not In Harmony with Final Results of Administrative Review; Correction

AGENCY: Import Administration, International Trade Administration, Department of Commerce.

SUPPLEMENTARY INFORMATION: This notice corrects the case number previously published in the Federal Register on November 30, 2006 (Helical Spring Lock Washers from the People's Republic of China: Notice of Court Decision Not In Harmony with Final Results of Administrative Review, 71 FR 69204). On page 69204, we used the incorrect case number to reference this case. The correct case number is “A-570-822.”

Dated: December 12, 2006.
Stephen J. Claeys,
Deputy Assistant Secretary for Import Administration.

[FR Doc. E6-21609 Filed 12-18-06; 8:45 am]

BILLING CODE 3510-DS-S